FEDERAL COMMUNICATIONS COMMISSION

Notice of Public Information Collection(s) Being Reviewed by the Federal Communications Commission, Comments Requested

May 6, 2008.

SUMMARY: The Federal Communications Commission, as part of its continuing effort to reduce paperwork burden, invites the general public and other Federal agencies to take this opportunity to comment on the following information collection(s), as required by the Paperwork Reduction Act of 1995 (PRA), 44 U.S.C. Sections 3501-3520. An agency may not conduct or sponsor a collection of information unless it displays a current valid control number. No person shall be subject to any penalty for failing to comply with a collection of information subject to the PRA that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before July 11, 2008. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Leslie F. Smith, Federal Communications Commission, Room 1-C216, 445 12th Street, SW., Washington, DC 20554.

SUPPLEMENTARY INFORMATION: OMB Control Number: 3060-0169.

Title: Sections 43.51 and 43.53, Reports and Records of Communications Common Carriers and Affiliates.

Form Number(s): N/A.

Type of Review: Extension of a currently approved collection.

Respondents: Business or other for-profit.

Number of Respondents and Responses: 63 respondents; 366 responses.

Estimated Time per Response: 85 hours (average).

Obligation to Respond: Required to obtain or retain benefits. See 47 CFR Sections 43.51, 43.53.

Frequency of Response: On occasion and annual reporting requirements; Recordkeeping requirement and Third party disclosure requirement.

Total Annual Burden: 5,366 hours.

Total Annual Cost: $0.00.

Privacy Act Impact Assessment: No impacts.

Nature of Extent of Confidentiality: The Commission is not requesting that the respondents submit confidential information to the FCC. Respondents may, however, request confidential treatment for information they believe to be confidential under 47 CFR 0.459 of the Commission's rules.

Needs and Uses: 47 CFR 43.51 requires any communication common carrier described in paragraph (b) of this section to file with the Commission, within thirty (30) days of execution, a copy of each contract, agreement, concession, license, authorization, operating agreement or other arrangement to which it is a party and any amendments. In addition to other reporting requirements, this rule section also requires an annual reporting requirement, third party disclosure requirement and recordkeeping requirements. 47 CFR 43.53 requires that each communication common carrier engaged directly in the transmission or reception of telegraph communications between the continental United States and any foreign country shall file a report with the Commission within thirty (30) days of the date of any arrangement concerning the division of the total telegraph charges on such communications other than transiting.

Federal Communications Commission.
Marlene H. Dortch,
Secretary.

[FR Doc. E8-10521 Filed 5-9-08; 8:45 am]

BILLING CODE 6712-01-P